ENVIRONMENTAL PROTECTION AGENCY

[EPA-HQ-OAR-2024-0336; FRL-12802-01-OMS]

Agency Information Collection Activities; Submission to the Office of Management and Budget for Review and Approval; Comment Request; Cross-State Air Pollution Rule and Texas SO2 Trading Programs (Renewal)

AGENCY: Environmental Protection Agency (EPA).

ACTION: Notice.

SUMMARY: The Environmental Protection Agency (EPA) has submitted an information collection request (ICR), Cross-State Air Pollution Rule and Texas SO2 Trading Programs (EPA ICR Number 2391.06, OMB Control Number 2060-0667) to the Office of Management and Budget (OMB) for review and approval in accordance with the Paperwork Reduction Act. This is a proposed extension of the ICR, which is currently approved through May 31, 2025. Public comments were previously requested via the Federal Register on September 5, 2024 during a 60-day comment period. This notice allows for an additional 30 days for public comments.

DATES: Comments may be submitted on or before June 23, 2025.

ADDRESSES: Submit your comments, referencing Docket ID Number No. EPA-HQ-OAR-2024-0336, to EPA online using www.regulations.gov (our preferred method), by email to a-and-r-Docket@epa.gov, or by mail to: EPA Docket Center, Environmental Protection Agency, Mail Code 28221T, 1200 Pennsylvania Ave. NW, Washington, DC 20460, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Morgan Riedel, Clean Air and Power Division, Office of Air and Radiation, (6204A), Environmental Protection Agency, 1200 Pennsylvania Ave. NW, Washington, DC 20460; telephone number: 202-564-1144; email address: riedel.morgan@epa.gov.

SUPPLEMENTARY INFORMATION: This is a proposed extension of the ICR, which is currently approved through May 31, 2025. An agency may not conduct or sponsor and a person is not required to respond to a collection of information unless it displays a currently valid OMB control number.

Public comments were previously requested via the Federal Register on September 5, 2024 during a 60-day comment period (89 FR 72394). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA is renewing an ICR for the Cross-State Air Pollution Rule (CSAPR) trading programs to allow for continued implementation of the programs. The information collection requirements under five CSAPR trading programs and the Texas SO2 Trading Program are reflected in the existing ICR as most recently revised in 2018. In 2021, EPA promulgated an additional CSAPR NOX Ozone trading program which only includes sources previously subject to another CSAPR trading program reflected in the current ICR. This ICR renewal reflects all six CSAPR trading programs and the Texas SO2 Trading Program. Most affected sources under the CSAPR and Texas trading programs are also subject to the Acid Rain Program (ARP). The information collection requirements under the CSAPR and Texas trading programs, which consist primarily of requirements to monitor and report emissions data in accordance with 40 CFR part 75, substantially overlap and are fully integrated with ARP information collection requirements. The burden and costs of overlapping requirements are accounted for in the ARP ICR (OMB Control Number 2060-0258). This ICR accounts for information collection burden and costs under the CSAPR and Texas trading programs that are incremental to the burden and costs already accounted for in the ARP ICR. All data received by EPA will be treated as public information.

Form Numbers: Agent Notice of Delegation #5900-172, Certificate of Representation #7610-1, General Account Form #7610-5, Allowance Transfer Form #7610-6, Retired Unit Exemption #7610-20, Allowance Deduction #7620-4.

Respondents/affected entities: Industry respondents are stationary, fossil fuel-fired boilers and combustion turbines serving electricity generators subject to the CSAPR and Texas trading programs, as well as non-source entities voluntarily participating in allowance trading activities. Potential state respondents are states that can elect to submit state-determined allowance allocations for sources located in their states.

Respondents' obligation to respond: Industry respondents: voluntary and mandatory (Sections 110(a) and 301(a) of the Clean Air Act). State respondents: voluntary.

Estimated number of respondents: 941 (total); 870 industry respondents, 27 potential state respondents, and 44 non-sources entities.

Frequency of response: On occasion, quarterly, and annually.

Total estimated burden: 109,233 hours (per year). Burden is defined at 5 CFR 1320.03(b).

Total estimated cost: $16,855,976 (total per year); includes $8,207,543.84 annualized capital or operation & maintenance costs.

Changes in Estimates: There is decrease of 4,279 hours in the total estimated respondent burden compared with the ICR currently approved by OMB. This is due to a decrease in the number of regulated sources from facility retirements.

Courtney Kerwin,
Director, Information Engagement Division.

[FR Doc. 2025-09300 Filed 5-22-25; 8:45 am]

BILLING CODE 6560-50-P